DEPARTMENT OF ENERGY

Federal Energy Regulatory Commission

Combined Notice of Filings #1

Take notice that the Commission received the following exempt wholesale generator filings:

Docket Numbers: EG17-91-000.

Applicants: Deerfield Wind, LLC.

Description: Self-Certification of EWG Status of Deerfield Wind, LLC.

Filed Date: 4/7/17.

Accession Number: 20170407-5103.

Comments Due: 5 p.m. ET 4/28/17.

Docket Numbers: EG17-92-000.

Applicants: Tule Wind LLC.

Description: Self-Certification of EWG Status of Tule Wind LLC.

Filed Date: 4/7/17.

Accession Number: 20170407-5106.

Comments Due: 5 p.m. ET 4/28/17.

Docket Numbers: EG17-93-000.

Applicants: Twin Buttes Wind II LLC.

Description: Self-Certification of EWG Status of Twin Buttes Wind II LLC.

Filed Date: 4/7/17.

Accession Number: 20170407-5111.

Comments Due: 5 p.m. ET 4/28/17.

Docket Numbers: EG17-94-000.

Applicants: El Cabo Wind LLC.

Description: Self-Certification of EWG Status of El Cabo Wind LLC.

Filed Date: 4/7/17.

Accession Number: 20170407-5114.

Comments Due: 5 p.m. ET 4/28/17.

Docket Numbers: EG17-95-000.

Applicants: Henderson County Solar LLC.

Description: Self-Certification of EG or FC of Henderson County Solar LLC.

Filed Date: 4/7/17

Accession Number: 20170407-5205.

Comments Due: 5 p.m. ET 4/28/17.

Take notice that the Commission received the following electric rate filings:

Docket Numbers: ER16-1760-001.

Applicants: Armstrong Power, LLC.

Description: Compliance filing: Informational Filing Regarding Planned Transfer to be effective N/A.

Filed Date: 4/6/17.

Accession Number: 20170406-5231.

Comments Due: 5 p.m. ET 4/27/17.

Docket Numbers: ER16-1764-001.

Applicants: Troy Energy, LLC.

Description: Compliance filing: Informational Filing Regarding Planned Transfer to be effective N/A.

Filed Date: 4/6/17.

Accession Number: 20170406-5232.

Comments Due: 5 p.m. ET 4/27/17.

Docket Numbers: ER17-1390-000.

Applicants: Pacific Gas and Electric Company.

Description: § 205(d) Rate Filing: Engineering and Permitting Agreement with California High Speed Rail (RS 247) to be effective 4/7/2017.

Filed Date: 4/6/17.

Accession Number: 20170406-5512.

Comments Due: 5 p.m. ET 4/27/17.

Docket Numbers: ER17-1391-000.

Applicants: Jersey Central Power & Light Company, Metropolitan Edison Company, Pennsylvania Electric Company, Mid-Atlantic Interstate Transmission, LLC, PJM Interconnection, L.L.C.

Description: § 205(d) Rate Filing: Penelec, et al submits Revised WASPs Service Agreement Nos. 4221, 4222, and 4223 to be effective 6/6/2017.

Filed Date: 4/7/17.

Accession Number: 20170407-5053.

Comments Due: 5 p.m. ET 4/28/17.

Docket Numbers: ER17-1392-000.

Applicants: El Cabo Wind LLC.

Description: Baseline eTariff Filing: Baseline new to be effective 6/6/2017.

Filed Date: 4/7/17.

Accession Number: 20170407-5054.

Comments Due: 5 p.m. ET 4/28/17.

Docket Numbers: ER17-1393-000.

Applicants: Midcontinent Independent System Operator.

Description: § 205(d) Rate Filing: 2017-04-07_MISO 1st Quarter 2017 Tariff Clean-Up Filing to be effective 4/8/2017.

Filed Date: 4/7/17.

Accession Number: 20170407-5207.

Comments Due: 5 p.m. ET 4/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2017.
Kimberly D. Bose,
Secretary.

[FR Doc. 2017-07544 Filed 4-13-17; 8:45 am]

BILLING CODE 6717-01-P